DEPARTMENT OF HOMELAND SECURITY

U.S. Immigration and Customs Enforcement

[Docket No. ICEB-2016-0001]

Advisory Committee on Family Residential Centers

AGENCY: Immigration and Customs Enforcement, DHS.

ACTION: Notice of Federal Advisory Committee meeting.

SUMMARY: The U.S. Immigration and Customs Enforcement (ICE) Advisory Committee on Family Residential Centers (ACFRC) will meet in Washington, DC to discuss ACFRC subcommittee reports and vote on potential recommendations. This meeting will be open to the public. Due to limited seating, individuals who wish to attend the meeting in person are required to register online at www.ice.gov/acfrc.

DATES: The ICE Advisory Committee on Family Residential Centers will meet on Friday, October 7, 2016, from 9:00 a.m. to 5:00 p.m. Please note that these meetings may conclude early if the Committee has completed all business.

ADDRESSES: The meeting will be held in the Julie Myers Conference Center at ICE Headquarters, 500 12th St. SW., Washington, DC 20536.

For information on facilities, services for individuals with disabilities, or to request special assistance at the meeting, contact Mr. John Amaya, Designated Federal Officer, at ICE_ACFRC@ice.dhs.gov.

FOR FURTHER INFORMATION CONTACT: Mr. John Amaya, Designated Federal Officer for the Advisory Committee on Family Residential Centers, at ICE_ACFRC@ice.dhs.gov.

SUPPLEMENTARY INFORMATION: Notice of this meeting is given under the Federal Advisory Committee Act (FACA) (Title 5, United States Code (U.S.C.), Appendix). Under the Secretary of DHS's authority in Title 6, U.S.C., Section 451, this Committee is established in accordance with and operates under the provisions of the FACA. The Committee provides advice and recommendations to the Secretary of DHS through the Assistant Secretary of ICE on matters concerning ICE's family residential centers related to education, language services, detention management, medical treatment, and access to counsel.

Written statements may be submitted to the ACFRC Designated Federal Officer (DFO) (see FOR FURTHER INFORMATION CONTACT). Statements should be no longer than two type-written pages and address the following details: The issue, discussion, and recommended course of action. Additional information, including the agenda and electronic registration details, is available on the ACFRC Web site at www.ice.gov/acfrc.

Meeting Agenda

The agenda for the Advisory Committee on Family Residential Centers meeting is as follows:

Friday, October 7, 2016

(1) Welcome and Opening Remarks

(2) Discussion of Subcommittee on Medical and Mental Health Report

(3) Public Comment

(4) Discussion of Subcommittee on Education

(5) Public Comment

(6) Lunch

(7) Discussion of Subcommittee on Access to Counsel and Language Access Report

(8) Public Comment

(9) Committee Votes on Potential Recommendations

(10) Closing Remarks

(11) Adjourn

The meeting agenda, Committee tasking, and all meeting documentation will be made available online at: www.ice.gov/acfrc. Alternatively, you may contact Mr. John Amaya as noted in the FOR FURTHER INFORMATION CONTACT section above.

During public oral comment periods, speakers are requested to limit their comments to 2 minutes. Please note that the public comment period may end before the time indicated, following the last call for comments.

Dated: September 13, 2016.
Molly Stubbs,
Supervisory Regulations Specialist, U.S. Immigration and Customs Enforcement.

[FR Doc. 2016-22326 Filed 9-15-16; 8:45 am]

BILLING CODE 9110-28-P